DEPARTMENT OF ENERGY

Federal Energy Regulatory Commission

[Docket No. RP04-599-000]

Destin Pipeline Company, L.L.C.; Notice of Proposed Changes in FERC Gas Tariff

September 23, 2004.

Take notice that on September 15, 2004, Destin Pipeline Company, L.L.C. (Destin) tendered for filing as part of its FERC Gas Tariff, Original Volume No. 1, the following revised tariff sheets proposed to become effective October 15, 2004:

Second Revised Sheet No. 1

Third Revised Sheet No. 33

Fourth Revised Sheet No. 123

Destin states that this filing, made in accordance with the provisions of Section 154.204 of the Federal Energy Regulatory Commission's (Commission) regulations, is to make minor conforming changes to its Tariff to implement the requirements of Order No. 2004, and the Standards of Conduct regulations pursuant to part 358 of the Commission's regulations, 18 CFR part 358.

A copy of this filing is available for public inspection during regular business hours at Destin's offices at 200 WestLake Park Boulevard, Houston, Texas 77079-2696. In addition, copies of this filing are being served on all affected shippers and applicable state regulatory agencies.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2440 Filed 9-29-04; 8:45 am]

BILLING CODE 6717-01-P